DEPARTMENT OF ENERGY

Federal Energy Regulatory Commission

[Docket No. ER09-1048-000; Docket No. ER09-1049-000; Docket Nos. ER09-1050-000; ER09-1192-000; Docket No. ER09-1051-000; Docket No. ER09-1063-000; Docket No. ER09-1142-000]

California Independent System Operator Corporation, et al.; First Notice of Technical Conference on California Independent System Operator Corporation; Midwest Independent Transmission System Operator, Inc.; Southwest Power Pool, Inc.; ISO New England, Inc. and New England Power Pool; PJM Interconnection, LLC; New York Independent System Operator, Inc.; and RTO/ISO Responsiveness

Date: November 13, 2009.

In Order Nos. 719 and 719-A, the Commission established reforms to improve the operation of organized wholesale electric power markets and amended its regulations under the Federal Power Act in the areas of: (1) Demand response; (2) long-term power contracting; (3) market monitoring policies; and (4) the responsiveness of regional transmission organizations (RTOs) and independent system operators (ISOs) to their customers and other stakeholders.¹ The RTOs and ISOs filed in compliance with Order Nos. 719 and 719-A in the above-referenced proceedings.

¹ Wholesale Competition in Regions with Organized Electric Market, Order No. 719, 73 FR 64,100 (Oct. 28, 2008), FERC Stats & Regs. ¶ 31,281 (2008); order on reh'g, 74 FR 37,772 (July 29, 2009), 128 FERC ¶ 61,059 (2009) (Order No. 719-A).

The staff of the Federal Energy Regulatory Commission will hold a technical conference in the near future to provide a forum for interested participants to discuss the fourth topic identified above—the responsiveness of RTOs and ISOs to their customers and other stakeholders. The technical conference will be held in the Commission Meeting Room at the Commission's Washington, DC headquarters, 888 First Street, NE.

The purpose of this notice is to advise the public of the technical conference. The Commission will notify the public as to the date for the technical conference, as well as specific information on the starting and ending times, the topics to be explored, and the format of the technical conference in a subsequent notice. All interested parties are invited to attend. There is no registration fee to attend this technical conference.

FERC conferences are accessible under section 508 of the Rehabilitation Act of 1973. For accessibility accommodations please send an e-mail to accessibility@ferc.gov or call toll free (866) 208-3372 (voice) or (202) 502-8659 (TTY), or send a fax to (202) 208-2106 with the required accommodations.

Kimberly D. Bose,
Secretary.

[FR Doc. E9-27810 Filed 11-18-09; 8:45 am]

BILLING CODE 6717-01-P